DEPARTMENT OF HEALTH AND HUMAN SERVICES

National Institutes of Health

Center for Scientific Review; Amended Notice of Meeting

Notice is hereby given of a change in the meeting of the Molecular and Cellular Endocrinology Study Section, February 8, 2018, 8:00 a.m. to February 9, 2018, 5:00 p.m., Ritz-Carlton Hotel at Pentagon City, 1250 South Hayes Street, Arlington, VA 22202 which was published in the Federal Register on January 19, 2018, 83 FR PG 2806.

This meeting will be held on February 7, 2018 at 5:30 p.m. and end February 8, 2018 8:00 p.m. The meeting location remains the same. The meeting is closed to the public.

Dated: January 30, 2018.
Sylvia L. Neal,
Program Analyst, Office of Federal Advisory Committee Policy.

[FR Doc. 2018-02152 Filed 2-2-18; 8:45 am]

BILLING CODE 4140-01-P